DEPARTMENT OF AGRICULTURE

Farm Service Agency

Information Collection; Online Registration for FSA-Sponsored Events and Conferences

AGENCY: Farm Service Agency, USDA.

ACTION: Notice; request for comment.

SUMMARY: In accordance with the Paperwork Reduction Act of 1995, the Farm Service Agency is seeking comments from all interested individuals and organizations on an extension without revision of the information collection associated with online registration for FSA-sponsored events and conferences. The information collection is needed for FSA to obtain information from the respondents who register on the Internet to make payment and reservations to attend any FSA-sponsored conferences and events.

DATES: Comments must be received in writing on or before January 2, 2007 to be assured of consideration. Comments received after that date will be considered to the extent practicable.

ADDRESSES: Comments concerning this notice should be addressed to Farm Service Agency, USDA, Office of External Affairs, Jeff Kerby, 1400 Independence Avenue, SW., Washington, DC 20250. Comments also may be submitted via facsimile to (202) 720-2979 or by e-mail to: jeff.kerby@wdc.usda.gov.

FOR FURTHER INFORMATION CONTACT: Jeff Kerby, Office of External Affairs, (202) 720-1593.

SUPPLEMENTARY INFORMATION:

Description of Information Collection

Title: Online Registration for FSA-sponsored Events and Conferences.

OMB Number: 0560-0226.

Expiration Date of Approval: 04/30/07.

Type of Request: Extension with no revision.

Abstract: The collection of information is necessary for people to register online to make payment and reservations to attend conferences and events. They can register on FSA's Online Registration site on the Internet. Respondents who do not have access to the Internet can register by mail or fax. The information is collected by the FSA employees who sponsor the conferences and events. The FSA is collecting common elements from interested respondents such as name, organization, address, country, phone number, State, city or town, payment options (cash, credit card, check) and special accommodations requests. The respondents are mainly individuals who are interested in attending the FSA-sponsored conferences or events. The information is used to collect payment from the respondents and make hotel reservations and other special arrangements as necessary.

Estimate of Annual Burden: 15 minutes.

Type of Respondents: Individuals.

Estimated Annual Number of Respondents: 900.

Estimated Annual Number of Responses per Respondent: 1.

Estimated Total Annual Burden on Respondents: 225.

Comment is invited on: (1) Whether this collection of information is necessary for the stated purposes and the proper performance of the functions of the agency, including whether the information will have practical utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission for Office of Management and Budget approval. Signed at Washington, DC, October 20, 2006.

Teresa C. Lasseter,
Administrator, Farm Service Agency.

[FR Doc. E6-18370 Filed 10-31-06; 8:45 am]

BILLING CODE 3410-05-P